DEPARTMENT OF TRANSPORTATION

Federal Aviation Administration

14 CFR Part 39

[Docket No. FAA-2005-22454; Directorate Identifier 2001-NM-108-AD]

RIN 2120-AA64

Airworthiness Directives; Aerospatiale Model ATR42-200, ATR42-300, and ATR42-320 Airplanes

AGENCY: Federal Aviation Administration (FAA), Department of Transportation (DOT).

ACTION: Notice of proposed rulemaking (NPRM).

SUMMARY: The FAA proposes to supersede an existing airworthiness directive (AD) that applies to all Aerospatiale Model ATR-42-200, ATR 42-300, and ATR42-320 airplanes. The existing AD currently requires inspections to determine the proper installation of rivets in certain key holes and to detect cracks in the area of the key holes where rivets are missing; and correction of discrepancies. The existing AD also requires various inspections of the subject area for discrepancies, and corrective actions if necessary; and replacement of certain cargo door hinges with new hinges. For certain airplanes, the existing AD also requires replacement of friction plates, stop fittings, and bolts with new parts. This proposed AD would require additional corrective actions for certain airplanes. This proposed AD is prompted by discovery of cracks around key holes on certain fuselage frames where rivets were missing. We are proposing this AD to prevent fatigue cracks of the cargo door skin, certain frames, and entry door stop fittings and friction plates, which could result in reduced structural integrity of the airplane.

DATES: We must receive comments on this proposed AD by October 19, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Aerospatiale, 316 Route de Bayonne, 31060 Toulouse, Cedex 03, France.

You can examine the contents of this AD docket on the Internet at http://dms.dot.gov, or in person at the Docket Management Facility, U.S. Department of Transportation, 400 Seventh Street SW., room PL-401, on the plaza level of the Nassif Building, Washington, DC. This docket number is FAA-2005-22454; the directorate identifier for this docket is 2001-NM-108-AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

We invite you to submit any relevant written data, views, or arguments regarding this proposed AD. Send your comments to an address listed under ADDRESSES. Include “Docket No. FAA-2005-22454; Directorate Identifier 2001-NM-108-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On March 9, 2000, we issued AD 2000-05-26, amendment 39-11636 (65 FR 15226, March 22, 2000), for all Aerospatiale Model ATR42-200, ATR42-300, and ATR42-320 airplanes. That AD requires inspections to determine the proper installation of rivets in certain key holes and to detect cracks in the area of the key holes where rivets are missing; and correction of discrepancies. The existing AD also requires various inspections of the subject area for discrepancies, and corrective actions if necessary; and replacement of certain cargo door hinges with new hinges. For certain airplanes, the existing AD also requires replacement of friction plates, stop fittings, and bolts with new parts. That AD was prompted by discovery of cracks around key holes on certain fuselage frames where rivets were missing. We issued that AD to prevent fatigue cracks of the cargo door skin, certain frames, and entry door stop fittings and friction plates, which could result in reduced structural integrity of the airplane.

Actions Since Existing AD Was Issued

Since we issued AD 2000-05-26, the Direction Générale de l'Aviation Civile (DGAC), which is the airworthiness authority for France, notified us that an unsafe condition may exist on certain Aerospatiale Model ATR42-200, ATR42-300, and ATR-320 airplanes. The DGAC advises that installation of Aerospatiale Modification 3184, which was mandated in AD 2000-05-26, led to a bore over-sizing of the hinge fastener holes on certain airplanes. The bore over-sizing could lead to reduced structural integrity of the cargo door attachment to the fuselage.

Relevant Service Information

Aerospatiale has issued Avions de Transport Regional Service Bulletin (SB) ATR42-52-0058, Revision 2, dated June 22, 2000. The accomplishment instructions of Revision 2 describe procedures for a detailed inspection for cracking of the area of the frames and frame pick-up fittings, and procedures for repair if cracking is detected. The accomplishment instructions of Revision 2 also describe corrective actions that include inspections for fastener type and tolerances, hole diameters, cracking, and repair; as applicable. Additionally, Revision 2 describes replacing the hinges of the cargo compartment door and fuselage with new improved hinges, and installation of new peel shims and Hi-Lok fasteners. The DGAC mandated the service information and issued French airworthiness directive 2000-337-079(B), dated July 26, 2000, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States.

This proposed AD would supersede AD 2000-05-26. This proposed AD would retain the requirements of the existing AD. This proposed AD would require additional corrective actions for certain airplanes.

Differences Between Proposed Rule and Service Bulletin

The service bulletin specifies that you may contact the manufacturer for instructions on how to repair certain conditions, but this proposed AD would require you to repair those conditions using a method that we or the DGAC (or its delegated agent) approve. In light of the type of repair that would be required to address the unsafe condition, and consistent with existing bilateral airworthiness agreements, we have determined that, for this proposed AD, a repair we or the DGAC approve would be acceptable for compliance with this proposed AD.

Change to Existing AD

This proposed AD would retain all requirements of AD 2000-05-26. Since AD 2000-05-26 was issued, the AD format has been revised, and certain paragraphs have been rearranged. As a result, the corresponding paragraph identifiers have changed in this proposed AD, as listed in the following table:

Revised Paragraph Identifiers
Requirement in AD 2000-05-26 | Corresponding requirement in this proposed AD
paragraph (a) | paragraph (f)
paragraph (b) | paragraph (g)
paragraph (c) | paragraph (h)
paragraph (d) | paragraph (i)
paragraph (e) | paragraph (j)
paragraph (f) | paragraph (k)
paragraph (g) | paragraph (l)

Costs of Compliance

This proposed AD would affect about 106 Aerospatiale Model ATR42-200, ATR42-300, and ATR42-320 airplanes of U.S. registry.

The general visual inspection of fuselage frames 25 and 27 that is required by AD 2000-05-26 and retained in this proposed AD takes about 3 work hours per airplane, at an average labor rate of $65 per work hour. Based on these figures, the estimated cost of that currently required action is $195 per airplane.

The cargo door hinge and skin replacement that is required by AD 2000-05-26 and retained in this proposed AD takes about 250 work hours per airplane, at an average labor rate of $65 per work hour. Required parts will cost approximately $9,880 per airplane. Based on these figures, the estimated cost of the currently required action is $26,130 per airplane.

The general visual inspection of the key and tooling holes that is required by AD 2000-05-26 takes about 100 work hours per airplane, at an average rate of $65 per work hour. Based on these figures, the estimated cost of that currently required action is $6,500 per airplane.

The eddy current and detailed visual inspections of the forward entry door stop fitting and friction plate that are required by AD 2000-05-26 take about 2 work hours per airplane, at an average rate of $65 per work hour. Based on these figures, the estimated cost impact of this inspection required by AD 2000-05-26 is $130 per airplane.

The replacement of the forward entry door stop fitting, friction plate, and upper door corner that is required by AD 2000-05-26 takes about 50 work hours per airplane, at an average rate of $65 per work hour. The manufacturer has committed previously to its customers that it will bear the cost of replacement parts. As a result, the cost of those parts is not attributable to this AD. Based on these figures, the estimated cost of that action required by AD 2000-05-26 is $3,250 per airplane.

The new proposed actions would take about 250 work hours per airplane, at an average labor rate of $65 per work hour. Required parts would cost about $9,880 per airplane. Based on these figures, the estimated cost of the new actions specified in this proposed AD is $26,130 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-11636 (65 FR 15226, March 22, 2000) and adding the following new airworthiness directive (AD):

Aerospatiale: Docket No. FAA-2005-22454; Directorate Identifier 2001-NM-108-AD.

Comments Due Date

(a) The Federal Aviation Administration must receive comments on this AD action by October 19, 2005.

Affected ADs

(b) This AD supersedes AD 2000-05-26, amendment 39-11636 (65 FR 15226, March 22, 2000).

Applicability

(c) This AD applies to all Aerospatiale Model ATR42-200, ATR42-300, and ATR-320 airplanes, certificated in any category.

Unsafe Condition

(d) This AD was prompted by discovery of cracks around key holes on certain fuselage frames where rivets were missing. We are issuing this AD to prevent fatigue cracks of the cargo door skin, certain frames, and entry door stop fittings and friction plates, which could result in reduced structural integrity of the airplane.

Compliance

(e) You are responsible for having the actions required by this AD performed within the compliance times specified, unless the actions have already been done.

Restatement of the Requirements of AD 2000-05-26

Frame 25 and 27 Inspection

(f) For airplanes having serial numbers 005 through 016 inclusive, 018 through 030 inclusive, 032 through 036 inclusive, 038, 040, 042, 043, 048 through 062 inclusive, 064 through 090 inclusive, 092 through 094 inclusive, and 096 through 228 inclusive: Prior to the accumulation of 36,000 total flight cycles, or within 180 days after April 26, 2000, (the effective date of AD 2000-05-26, amendment 39-11636) whichever occurs later, conduct a general visual inspection of fuselage frames 25 and 27 to verify the proper installation of a rivet in each of the key holes, in accordance with Avions de Transport Regional (ATR) Service Bulletin ATR42-53-0070, Revision 2, dated March 22, 1993, or Revision 3, dated February 19, 1999.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Note 2: Inspection of fuselage frames 25 and 27 accomplished prior to the effective date of this AD in accordance with ATR Service Bulletin ATR42-53-0070, dated June 10, 1991, or Revision 1, dated June 12, 1992, is considered acceptable for compliance with the requirements of paragraph (f) of this AD.

(1) If a rivet is installed in each of the key holes, no further action is required by this paragraph.

(2) If a rivet is not installed in each of the key holes, prior to further flight, perform an eddy current inspection of each open key hole to detect cracks, in accordance with the service bulletin.

(i) If no crack is found during the eddy current inspection, prior to further flight, install a rivet in the open key hole in accordance with the service bulletin. After such installation, no further action is required by this paragraph for that key hole.

(ii) If any crack is found during the eddy current inspection, prior to further flight, repair the crack in accordance with a method approved by the Manager, International Branch, ANM-116, FAA, Transport Airplane Directorate, or the Direction Générale de l'Aviation Civile (DGAC) (or its delegated agent). For a repair method to be approved by the Manager, International Branch, ANM-116, as required by this paragraph, the Manager's approval letter must specifically reference this AD.

Inspection and Modification of Cargo Door Structure

(g) For airplanes equipped with a cargo compartment door on which Aerospatiale Modification 3191 has not been accomplished: Prior to the accumulation of 27,000 total flight cycles, or within 180 days after April 26, 2000, whichever occurs later, except as provided by paragraph (h) of this AD, replace the hinges on the cargo compartment door and fuselage (including inspections for fastener type and tolerances, hole diameters, or cracking, and repair; as applicable) with new improved hinges, in accordance with paragraph 2 of the Accomplishment Instructions of ATR Service Bulletin ATR42-52-0058, Revision 1, dated March 1, 1995, or ATR42-52-0058, Revision 2, dated June 22, 2000.

(h) Where the instructions in ATR Service Bulletin ATR42-52-0058, Revision 1, dated March 1, 1995, or ATR42-52-0058, Revision 2, dated June 22, 2000, specify that ATR is to be contacted for a repair, prior to further flight, repair in accordance with a method approved by the Manager, International Branch, ANM-116, or the DGAC (or its delegated agent).

Frame Inspection

(i) For airplanes having serial numbers 003 through 208 inclusive: Prior to the accumulation of 36,000 total flight cycles, or within 180 days after April 26, 2000, whichever occurs later, conduct a general visual inspection of the identified fuselage frames for proper installation of a rivet in each of the tooling and key holes, in accordance with ATR Service Bulletin ATR42-53-0076, Revision 2, dated October 15, 1996, or Revision 3, dated February 19, 1999.

(1) If a rivet is installed in each of the tooling or key holes, no further action is required by this paragraph.

(2) If a rivet is not installed in each of the tooling and key holes, prior to further flight, perform a detailed inspection of each open tooling or key hole to detect cracks, in accordance with the service bulletin.

Note 3: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(i) If no crack is found during the detailed inspection required by paragraph (i)(2) of this AD, prior to further flight, install a rivet in the open hole in accordance with the service bulletin.

(ii) If any crack is found during the inspection required by paragraph (i)(2) of this AD, prior to further flight, repair the crack in accordance with a method approved by the Manager, International Branch, ANM-116, or the DGAC (or its delegated agent).

Inspection and/or Replacement of Entry Door Structure

(j) For Model ATR42-300 series airplanes having serial numbers listed in ATR Service Bulletin ATR42-52-0052, Revision 1, dated March 2, 1993: Except as provided by paragraph (f) of this AD, prior to the accumulation of 10,000 total flight cycles, or within 90 days after April 26, 2000, whichever occurs later, accomplish the requirements of paragraphs (j)(1) and (j)(2) of this AD.

(1) Perform an eddy current inspection of the forward entry door stop holes to detect cracking, in accordance with the service bulletin. If any cracking is detected, prior to further flight, replace any cracked forward entry door stop fitting with a new fitting, in accordance with the service bulletin.

(2) Perform a detailed inspection of the forward entry door friction plates for wear, in accordance with the service bulletin. If wear is found on any friction plate, and the wear has a depth equal to or greater than 0.8mm (0.0315 in.), prior to further flight, replace the friction plate with a new or serviceable part in accordance with the service bulletin.

(k) For Model ATR42-300 series airplanes listed in ATR Service Bulletin ATR42-52-0052, Revision 1, dated March 2, 1993, accomplishment of the requirements of paragraph (l) of this AD at the time specified in paragraph (j) of this AD constitutes terminating action for the requirements of paragraph (j) of this AD.

(l) For Model ATR42-300 series airplanes listed in ATR Service Bulletin ATR42-52-0059, dated February 16, 1995: Prior to the accumulation of 18,000 total flight cycles, or within 180 days after April 26, 2000, whichever occurs later, accomplish the requirements of paragraphs (l)(1), (l)(2), and (l)(3) of this AD in accordance with the service bulletin.

(1) Replace the forward entry door friction plates with improved friction plates.

(2) Replace the upper corners of the forward entry door surround structure with improved door surround corners.

(3) Replace the forward entry door stop fittings and bolts with improved fittings and bolts.

New Requirements of This AD

Replacing Hinges on the Cargo Compartment Door and Fuselage

(m) For airplanes identified as having main serial numbers (MSNs) 317, 319, 321, 323, 325, 327, 329 through 335 inclusive, 360, and 368 that are equipped with a cargo compartment door on which Aerospatiale Modification 3191 has not been accomplished: Prior to the accumulation of 27,000 total flight hours, or within 180 days after the effective date of this AD, whichever occurs later, replace the hinges on the cargo compartment door and fuselage (including inspections for fastener type and tolerances, hole diameters, or cracking, and repair; as applicable) with new improved hinges, in accordance with the Accomplishment Instructions of Avions de Transport Regional (ATR) Service Bulletin ATR42-52-0058, Revision 2, dated June 22, 2000.

(n) Where the instructions in ATR Service Bulletin ATR42-52-0058, Revision 2, dated June 22, 2000, specify that ATR is to be contacted for a repair, prior to further flight, repair in accordance with a method approved by the Manager, International Branch, ANM-116, FAA; or the DGAC (or its delegated agent).

Alternative Methods of Compliance (AMOCs)

(o) The Manager, International Branch, ANM-116, has the authority to approve AMOCs for this AD, if requested in accordance with the procedures found in 14 CFR 39.19.

Related Information

(p) French airworthiness directive 2000-337-079(B), dated July 26, 2000, also addresses the subject of this AD.

Issued in Renton, Washington, on September 9, 2005.
Ali Bahrami,
Manager, Transport Airplane Directorate, Aircraft Certification Service.

[FR Doc. 05-18528 Filed 9-16-05; 8:45 am]

BILLING CODE 4910-13-P